DEPARTMENT OF EDUCATION

Local Flexibility Demonstration Program: Office of Elementary and Secondary Education, Department of Education; Notice Inviting Applications for the Local Flexibility Demonstration Program

Purpose of the Program: To provide local educational agencies (LEAs) with high-quality local flexibility demonstration proposals an opportunity to enter into local flexibility demonstration agreements (“Local-Flex” agreements) with the Secretary. The LEAs that the Secretary selects to participate in the Local-Flex program will have the flexibility to consolidate certain Federal formula grant funds in order to assist them in meeting the State's definition of adequate yearly progress and the LEA's specific measurable goals for improving student achievement and narrowing achievement gaps.

Eligible Applicants: LEAs in the following States are eligible to apply for Local-Flex: Alaska, Arkansas, California, Connecticut, Georgia, Idaho, Indiana, Iowa, Kansas, Kentucky, Louisiana, Maine, Maryland, Michigan, Minnesota, Mississippi, Missouri, Montana, Nevada, New Hampshire, New Jersey, New Mexico, New York, North Carolina, North Dakota, Ohio, Oklahoma, Oregon, Rhode Island, South Carolina, South Dakota, Utah, Vermont, Virginia, Washington, West Virginia, Wisconsin, and Wyoming.

By statute, the Secretary may enter into Local-Flex agreements with no more than three LEAs in a State. Therefore, any consortium that seeks a Local-Flex agreement may include no more than three LEAs. Furthermore, only LEAs that receive formula grant funds from their State educational agency (SEA) under the Federal programs subject to consolidation may seek Local-Flex authority.

LEAs in the following States may not apply at this time because their SEA indicated, by May 8, 2002, an intent to apply for State-Flex authority: Alabama, Arizona, Colorado, Delaware, Florida, Illinois, Massachusetts, Nebraska, Pennsylvania, Tennessee, and Texas. In addition, the District of Columbia, Hawaii, Puerto Rico, and the outlying areas are not eligible to apply for Local-Flex because, for purposes of this program, the legislation considers a state-wide LEA to be an SEA.

Under the legislation, a State generally cannot receive State-Flex authority if one of its LEAs has entered into a Local-Flex agreement with the Secretary. If an LEA enters into a Local-Flex agreement with the Secretary, its SEA may subsequently seek State-Flex authority only if that LEA agrees to be part of the SEA's State-Flex proposal.

Applications Available: September 17, 2002.

Deadline for Transmittal of Applications: September 17, 2002.

Notification of Intent to Apply for Local-Flex: We will be able to develop a more efficient process for reviewing Local-Flex applications if we have a better understanding of the number of LEAs that intend to seek participation in the program. Therefore, we strongly encourage each potential applicant to send, by August 19, 2002, a notification of its intent to apply for participation in the Local-Flex program to the following address: LocalFlex@ed.gov.

The notification of intent to apply for participation in Local-Flex is optional and should not include information regarding the potential applicant's Local-Flex proposal. LEAs that fail to provide the notification may still submit an application by the application deadline.

SUPPLEMENTARY INFORMATION: Sections 6151 through 6156 of the Elementary and Secondary Education Act of 1965 (ESEA), as amended by the No Child Left Behind Act of 2001 (P.L. 107-110), authorize the Secretary of Education to enter into local flexibility demonstration agreements (“Local-Flex” agreements) with up to eighty LEAs. The Secretary will select Local-Flex LEAs on a competitive basis in accordance with the selection criteria contained in a notice published elsewhere in this issue of the Federal Register. The application requirements and a description of the application process are also provided in that notice.

The Secretary intends to select up to forty LEAs for participation in Local-Flex under this competition, and will select the remaining LEAs in a subsequent competition.

FOR FURTHER INFORMATION CONTACT: Ms. Milagros Lanauze. Telephone: (202) 401-0039 or via Internet: LocalFlex@ed.gov.

If you use a telecommunications device for the deaf (TDD), you may call the Federal Information Relay Service (FIRS) at 1-800-877-8339. Individuals with disabilities may obtain this notice in an alternative format (e.g., Braille, large print, audiotape, or computer diskette) on request to the contact person listed above.

Applications: You may obtain a copy of the application on the Department's Web site at: http://www.ed.gov/flexibility/#prog.

You may also obtain a copy of the application from the contact person identified under FOR FURTHER INFORMATION CONTACT.

Electronic Access to This Document

You may view this document, as well as other Department of Education documents published in the Federal Register in text or Adobe Portable Document Format (PDF) on the Internet at the following site: www.ed.gov/legislation/FedRegister.

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO access at: www.access.gpo.gov/nara/index.html.

Program Authority: Sections 6151 through 6156 of the ESEA, as amended by the No Child Left Behind Act of 2001 (P.L. 107-110).

Dated: July 15, 2002.
Susan B. Neuman,
Assistant Secretary for Elementary and Secondary Education.

[FR Doc. 02-18306 Filed 7-18-02; 8:45 am]

BILLING CODE 4000-01-P